DEPARTMENT OF COMMERCE

International Trade Administration

[A-570-900]

Diamond Sawblades and Parts Thereof From the People's Republic of China: Extension of Time Limit for Final Results of Antidumping Duty Administrative Review

AGENCY: Import Administration, International Trade Administration, Department of Commerce.

DATES: Effective Date: March 13, 2012.

FOR FURTHER INFORMATION CONTACT: Jerrold Freeman, AD/CVD Operations, Office 1, Import Administration, International Trade Administration, U.S. Department of Commerce, 14th Street and Constitution Avenue NW., Washington, DC 20230; telephone: (202) 482-0180.

SUPPLEMENTARY INFORMATION:

Background

On December 6, 2011, the Department of Commerce (the Department) published in the Federal Register the Preliminary Results of the first administrative review covering the antidumping duty order on diamond sawblades and parts thereof from the People's Republic of China for the period January 23, 2009, through October 31, 2010.¹ Subsequent to the publication of the Preliminary Results, the Department extended the deadlines for submission of post-preliminary surrogate values, rebuttal comments and case briefs.² The final results of the review are currently due no later than April 4, 2012.

¹ See Diamond Sawblades and Parts Thereof From the People's Republic of China: Preliminary Results of Antidumping Duty Administrative Review and Intent To Rescind Review in Part, 76 FR 76135 (December 6, 2011) (Preliminary Results).

² See Letters from Minoo Hatten, Program Manager, Office 1, to All Interested Parties dated December 22, 2011, January 24, 2012, and February 2, 2012.

Extension of Time Limit for Final Results

Section 751(a)(3)(A) of the Tariff Act of 1930, as amended (the Act), requires the Department to complete the final results of an administrative review within 120 days after the date on which the preliminary results are published. If it is not practicable to complete the review within these time periods, section 751(a)(3)(A) of the Act allows the Department to extend the time limit for the final results to a maximum of 180 days after the date on which the preliminary results are published.

We determine that it is not practicable to complete the final results of this review within the original time limit because of the complexity of issues involving the analysis of surrogate value data on the record and because of the additional extensions we have granted, at the request of various parties, to review and submit post-preliminary surrogate value data, case briefs and rebuttal comments. Therefore, we are extending the time period for issuing the final results of this review by 40 days until May 14, 2012.

This notice is published in accordance with section 751(a)(3)(A) of the Act and 19 CFR 351.213(h)(2).

Dated: March 7, 2012.
Christian Marsh,
Deputy Assistant Secretary for Antidumping and Countervailing Duty Operations.

[FR Doc. 2012-6077 Filed 3-12-12; 8:45 am]

BILLING CODE 3510-DS-P